SECURITIES AND EXCHANGE COMMISSION

[Release No. 34-62432; File No.

SR-CBOE-2010-066]

Self-Regulatory Organizations; Chicago Board Options Exchange, Incorporated: Notice of Filing and Immediate Effectiveness of Proposed Rule Change to Reduce the Payments that CBOE Makes to CBOE Trading Permit Holders that Participate in a Program Under Which CBOE Subsidizes the Costs of Providing and/or Using Certain Order Routing Functionalities

Correction

In notice document 10-16686 beginning on page 39602, in the issue of Friday, July 9, 2010 make the following corrections:

1. On page 39602, on the second column, the heading is corrected to include the bracketed information [Release No. 34-62432; File No. SR-CBOE-2010-066].

2. On page 39603, in the second column, at the end of this document, the billing code is corrected to appear as BILLING CODE 8010-01-P.

[FR Doc. C1-2010-16686 Filed 7-29-10; 8:45 am]

BILLING CODE 1505-01-D